DEPARTMENT OF HEALTH AND HUMAN SERVICES

Centers for Disease Control and Prevention

[60Day-13-13AIG]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Taxi Driver Survey on Motor Vehicle Safety and Workplace Violence (or, Taxi Driver Survey)—New—National Institute for Occupational Safety and Health (NIOSH), Centers for Disease Control and Prevention (CDC).

Background and Brief Description

Under the Public Law 91-596 (Section 20[a][1]), the National Institute for Occupational Safety and Health (NIOSH) is tasked with conducting research relating to occupational safety and health. There are two types of work-related events that are the overwhelming cause of injury and death among taxicab drivers: Transportation-related events (almost exclusively highway-related) and workplace violence.

In the U.S., motor vehicle crashes remain the leading cause of occupational fatalities and continue to be a leading cause of occupational nonfatal injuries. In 1998-2002, workers in the “Taxi Services” industry had the highest rate of nonfatal motor vehicle-related injuries treated in emergency departments (86 per 10,000 FTEs). Moreover, 134 of the 423 (32%) fatalities 2003-2010 in the “Taxi and limousine services” industry resulted from a motor vehicle crash.

Workers, who operate light motor vehicles as their primary job, including taxi drivers, are an inadequately studied population. There are few reports describing the population of workers driving light motor vehicles, their driving patterns, or their driving behaviors. The road safety component of the proposed study would provide new scientific knowledge of a well-defined occupation whose primary job is to operate a taxi cab at any time of day under numerous road and traffic conditions. Motor vehicle safety findings from this survey will be disseminated globally to municipal transportation regulators through an established network.

Workplace violence continues to contribute substantially to the public health burden of both nonfatal and fatal injury outcomes. The proposed study would have a workplace violence section in the survey that would allow the evaluation of the major types of safety equipment on rates of workplace violence incidents and events at the individual level (taxicab drivers).

The proposed study goals are to: (1) Describe the occurrence of motor vehicle events among taxicab drivers, (2) describe the risk factors of motor vehicle events among taxicab drivers, and (3) evaluate events of workplace violence among taxicab drivers. In order to accomplish the study goals, the corresponding study objectives are: (a) To enumerate the occurrence of motor vehicle crashes among taxicab drivers, (b) identify and describe the risk factors and protective factors associated with road safety among taxicab drivers, and (c) compare workplace violence events over a twenty-four-month period among taxicab drivers by type of safety equipment installed in taxicab. Findings from the study will be used to develop future prevention initiatives for reducing work-related motor vehicle crashes. These prevention initiatives, such as reducing driver fatigue through shift work limitations, may take the form of municipal ordinances promulgated by the city regulators or company-wide (such as Yellow Cab) directives designed to impact road safety by a city taxi fleet. Another use of data collected for this study would be to serve as a baseline measure for a future evaluation of safety initiatives implemented at the municipal level. Finally, contextual data on motor vehicle crashes is not completely captured by current surveillance methods. Such a survey would provide insight into the occurrence of crashes involving taxicabs. Furthermore, data on driving behaviors in the context of safety climate and role overload can only be obtained directly from taxicab drivers and will provide the perspective needed for designing effective safety interventions.

CDC requests Office of Management and Budget (OMB) approval to collect survey data using the Taxi Driver Survey, from taxicab drivers in two cities once during a 30 minute time period, and is seeking a two-year clearance. Because each taxicab driver will be waiting for taxicab inspection to be completed or waiting for a fare, the taxicab driver will be available. Responding to the survey is not expected to entail significant burden to respondents.

The study objectives will be addressed using a survey designed to capture prevalence and frequency of adverse motor vehicle events and injuries, road safety data elements and workplace violence data elements. Multivariable regression models will provide measures of association.

Data will be collected on 500 taxi drivers in each of two cities during the annual vehicle inspection for each city or when congregated at the airport waiting lot awaiting access to airport terminals. The estimated burden per response is 30 minutes. The survey questions are from validated questionnaires and were pilot tested. Since all taxicab drivers are required to have a working knowledge of English and literacy is of concern, the survey will be administered in English using a 6th grade comprehension level.

CDC anticipates that routine information collection will be conducted in City 1 during the month of April 2013 and during one month in FY 2014 for City 2. The information collected will describe road safety and workplace violence experiences in the past 24 months. Collecting one month of data in each city results in an estimated burden of 250 hours per month. The total estimated burden is 500 hours. There is no cost to respondents other than their time.

Estimated Annualize Burden Hours
Type of respondents | Form name | Number of respondents | Number of responses per respondent | Avg. burden per response (in minutes) | Total burden (in hrs)
Taxicab Drivers | Taxi Driver Survey | 1,000 | 1 | 30/60 | 500
Total |  |  |  |  | 500

Leroy Richardson,
Chief, Information Collection Review Office, Office of Scientific Integrity, Office of the Associate Director for Science, Office of the Director, Centers for Disease Control and Prevention.

[FR Doc. 2013-22299 Filed 9-12-13; 8:45 am]

BILLING CODE 4163-18-P